DEPARTMENT OF TRANSPORTATION

Federal Aviation Administration

14 CFR Part 39

[Docket No. FAA-2008-1043; Directorate Identifier 2008-NM-036-AD; Amendment 39-15845; AD 2009-06-09]

RIN 2120-AA64

Airworthiness Directives; 328 Support Services GmbH Dornier Model 328-100 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During overhaul on a Dornier 328-100 landing gear unit, parts of the MLG (main landing gear) main body and trailing arm bushings have been found corroded. Investigation showed that over time, these bushings can migrate, creating the risk of corrosion in adjacent areas. Such corrosion, if not detected, could cause damage to the MLG, possibly resulting in MLG functional problems or failure.

* * * * *

Functional problems or failure of the MLG could result in the inability of the MLG to extend or retract. We are issuing this AD to require actions to correct the unsafe condition on these products.

DATES: This AD becomes effective April 28, 2009.

The Director of the Federal Register approved the incorporation by reference of certain publications listed in this AD as of April 28, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, FAA, Transport Airplane Directorate, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on September 30, 2008 (73 FR 56763). That NPRM proposed to correct an unsafe condition for the specified products. The MCAI states:

During overhaul on a Dornier 328-100 landing gear unit, parts of the MLG (main landing gear) main body and trailing arm bushings have been found corroded. Investigation showed that over time, these bushings can migrate, creating the risk of corrosion in adjacent areas. Such corrosion, if not detected, could cause damage to the MLG, possibly resulting in MLG functional problems or failure.

Based on these findings, the existing mandatory retrofit limitation (as required by Airworthiness Limitations Document under Section E “Mandatory Retrofit Items” since 16 September 1998) for the MLG bushings at 15,000 FC (flight cycles) has been amended with “* * * or 6 calendar years time-in-service (TIS), whichever occurs first”.

For the reasons described above, this [EASA] Airworthiness Directive requires the implementation of the revised mandatory retrofit limitation and modification of MLG bushings that have exceeded the new limit.

Functional problems or failure of the MLG could result in the inability of the MLG to extend or retract. You may obtain further information by examining the MCAI in the AD docket.

Comments

We gave the public the opportunity to participate in developing this AD. We considered the comment received from the commenter.

Request To Clarify Certain Language

The commenter, Patrick Brady, has a concern about proposed language in the compliance section that may lead to confusion for operators. The commenter asks that paragraph (f)(1)(ii) of the NPRM be changed to clarify that the requirement for replacing the bushings is applicable only to bushings that were installed before issuance of Dornier Service Bulletin SB-328-32-245, Revision 2, dated November 21, 2007; and Messier-Dowty Service Bulletin 800-32-014, Revision 1, dated July 19, 1999. The commenter adds that if the bushings were replaced in accordance with the referenced service bulletins, and bushings with post-service bulletin part numbers were installed, no additional requirement to replace the bushings should be imposed.

We agree that further clarification is necessary; however, we do not agree that it is necessary to change the language specified in paragraph (f)(1)(ii) of this AD. If new bushings with post-service bulletin part numbers were installed in accordance with Dornier Service Bulletin SB-328-32-245, Revision 2, dated November 21, 2007; and Messier-Dowty Service Bulletin 800-32-014, Revision 1, dated July 19, 1999; and a records check has been done which verifies that the bushings were replaced with new bushings, there is no requirement in this AD to replace those bushings. In addition, paragraph (f) of the AD specifies to do the actions “unless already done.” We have made no change to the AD in this regard.

Conclusion

We reviewed the available data, including the comment received, and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 13 products of U.S. registry. We also estimate that it will take about 28 work-hours per product to comply with the basic requirements of this AD. The average labor rate is $80 per work-hour. Required parts will cost about $10,000 per product. Where the service information lists required parts costs that are covered under warranty, we have assumed that there will be no charge for these parts. As we do not control warranty coverage for affected parties, some parties may incur costs higher than estimated here. Based on these figures, we estimate the cost of this AD to the U.S. operators to be $159,120, or $12,240 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-06-09 328 Support Services GMBH (Formerly, AvCraft Aerospace GmbH, Formerly Fairchild Dornier GmbH, Formerly Dornier Luftfahrt GmbH): Amendment 39-15845. Docket No. FAA-2008-1043; Directorate Identifier 2008-NM-036-AD.

Effective Date

(a) This airworthiness directive (AD) becomes effective April 28, 2009.

Affected ADs

(b) None.

Applicability

(c) This AD applies to 328 Support Services GmbH Dornier Model 328-100 airplanes, all serial numbers, certificated in any category.

Subject

(d) Air Transport Association (ATA) of America Code 32: Landing gear.

Reason

(e) The mandatory continuing airworthiness information (MCAI) states:

During overhaul on a Dornier 328-100 landing gear unit, parts of the MLG (main landing gear) main body and trailing arm bushings have been found corroded. Investigation showed that over time, these bushings can migrate, creating the risk of corrosion in adjacent areas. Such corrosion, if not detected, could cause damage to the MLG, possibly resulting in MLG functional problems or failure.

Based on these findings, the existing mandatory retrofit limitation (as required by Airworthiness Limitations Document under Section E “Mandatory Retrofit Items” since 16 September 1998) for the MLG bushings at 15,000 FC (flight cycles) has been amended with “* * * or 6 calendar years time-in-service (TIS), whichever occurs first”.

For the reasons described above, this [EASA] Airworthiness Directive requires the implementation of the revised mandatory retrofit limitation and modification of MLG bushings that have exceeded the new limit.

Functional problems or failure of the MLG could result in the inability of the MLG to extend or retract.

Actions and Compliance

(f) Unless already done, do the following actions.

(1) Modify the MLG main body and trailing arm bushings at the applicable time specified in paragraph (f)(1)(i) or (f)(1)(ii) of this AD, or within 12 months after the effective date of this AD, whichever occurs later. Do the modification in accordance with the instructions of Dornier Service Bulletin SB-328-32-245, Revision 2, dated November 21, 2007; and Messier-Dowty Service Bulletin 800-32-014, Revision 1, dated July 19, 1999.

(i) For airplanes on which the bushings have not been replaced as of the effective date of this AD: Before the MLG accumulates 15,000 flight cycles or 6 years, whichever occurs first.

(ii) For airplanes on which the bushings have been replaced as of the effective date of this AD: Before the MLG exceeds 15,000 flight cycles or 6 years after replacement of the bushings, whichever occurs first.

(2) Within 1 month after the effective date of this AD: Revise the Airworthiness Limitations (AWL) section of the Instructions for Continued Airworthiness by incorporating the information in Dornier 328 Temporary Revision (TR) ALD-084, dated November 7, 2005, into Section E, “Mandatory Retrofit Items” of the Dornier 328 Airworthiness Limitations Document (ALD).

Note 1: The actions required by paragraph (f)(2) of this AD may be done by inserting a copy of Dornier 328 TR ALD-084, dated November 7, 2005, into Section E of the Dornier 328 ALD.

(3) After doing the replacement required by paragraph (f)(1) of this AD, no person may install, on any airplane, a MLG unit as a replacement part, unless it has been modified in accordance with paragraph (f)(1) of this AD.

FAA AD Differences

Note 2: This AD differs from the MCAI and/or service information as follows: No differences.

Other FAA AD Provisions

(g) The following provisions also apply to this AD:

(1) Alternative Methods of Compliance (AMOCs): The Manager, International Branch, ANM-116, FAA, has the authority to approve AMOCs for this AD, if requested using the procedures found in 14 CFR 39.19. Send information to Attn: Dan Rodina, Aerospace Engineer, International Branch, ANM-116, FAA, Transport Airplane Directorate, 1601 Lind Avenue, SW., Renton, Washington 98057-3356; telephone (425) 227-2125; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0009, dated January 11, 2008; Messier-Dowty Service Bulletin 800-32-014, Revision 1, dated July 19, 1999; Dornier Service Bulletin SB-328-32-245, Revision 2, dated November 21, 2007; and Dornier 328 TR ALD-084, dated November 7, 2005, to the Dornier 328 Airworthiness Limitations Document; for related information.

Material Incorporated by Reference

(i) You must use the service information contained in Table 1 of this AD, as applicable, to do the actions required by this AD, unless the AD specifies otherwise.

Table 1—Material Incorporated by Reference
Document | Revision | Date
Dornier 328 Temporary Revision ALD-084 to the Dornier 328 Airworthiness Limitations Document | Original | November 7, 2005.
Dornier Service Bulletin SB-328-32-245 | 2 | November 21, 2007.
Messier-Dowty Service Bulletin 800-32-014 | 1 | July 19, 1999.

Messier-Dowty Service Bulletin 800-32-014, Revision 1, dated July 19, 1999, contains the following effective pages:

Page Nos. | Revision level shown on page | Date shown on page
1, 6-8, 10, 12 | 1 | July 19, 1999.
2-5, 9, 11, 13, 14 | Original | January 18, 1999.

(1) The Director of the Federal Register approved the incorporation by reference of this service information under 5 U.S.C. 552(a) and 1 CFR part 51.

(2) For Dornier service information identified in this AD, contact 328 Support Services GmbH, Global Support Center, P.O. Box 1252, D-82231 Wessling, Federal Republic of Germany; telephone +49 8153 88111 6666; fax +49 8153 88111 6565; e-mail gsc.op@328support.de; Internet http://www.328support.de.

(3) For Messier-Dowty service information identified in this AD, contact Messier Services Americas, Customer Support Center, 45360 Severn Way, Sterling, Virginia 20166-8910; telephone 703-450-8233; fax 703-404-1621; Internet https://techpubs.services.messier-dowty.com.

(4) You may review copies of the service information at the FAA, Transport Airplane Directorate, 1601 Lind Avenue, SW., Renton, Washington. For information on the availability of this material at the FAA, call 425-227-1221 or 425-227-1152.

(5) You may also review copies of the service information that is incorporated by reference at the National Archives and Records Administration (NARA). For information on the availability of this material at NARA, call 202-741-6030, or go to: http://www.archives.gov/federal_register/code_of_federal_regulations/ibr_locations.html.

Issued in Renton, Washington, on February 27, 2009.
Ali Bahrami,
Manager, Transport Airplane Directorate, Aircraft Certification Service.

[FR Doc. E9-5955 Filed 3-23-09; 8:45 am]

BILLING CODE 4910-13-P